DEPARTMENT OF DEFENSE

Office of the Secretary

32 CFR Part 199

RIN 0720-AA74

TRICARE; Civilian Health and Medical Program of the Uniformed Services (CHAMPUS); Appeals and Hearings Procedures, Formal Review

AGENCY: Department of Defense.

ACTION: Final rule; amendment.

SUMMARY: On March 13, 2003 (68 FR 11973), the Department of Defense published an administrative correction to the final rule on Appeals and Hearings Procedures. The effective date of the amendment was not published in that correction. This rule is published to identify the effective date. All other information remains unchanged.

DATES: The effective date of the correction is May 1, 1983.

FOR FURTHER INFORMATION CONTACT: G. Jones, 3030-676-3401.

Dated: March 25, 2003.
L.M. Bynum,
Alternate OSD Federal Register Liaison Officer, Department of Defense.

[FR Doc. 03-7603 Filed 3-28-03; 8:45 am]

BILLING CODE 5001-08-M